DEPARTMENT OF COMMERCE

International Trade Administration

[A-201-802]

Gray Portland Cement and Clinker From Mexico: Notice of Amended Final Results of Antidumping Duty Changed-Circumstances Review

AGENCY: Import Administration, International Trade Administration, Department of Commerce.

DATES: Effective Date: January 11, 2008.

FOR FURTHER INFORMATION CONTACT: Hermes Pinilla or Minoo Hatten, AD/CVD Operations, Office 5, Import Administration, International Trade Administration, U.S. Department of Commerce, 14th Street and Constitution Avenue, NW., Washington, DC 20230; telephone: (202) 482-3477 and (202) 482-1690, respectively.

SUPPLEMENTARY INFORMATION: On November 1, 2007, the Department of Commerce (the Department) published the final results of changed-circumstances review of the antidumping duty order on gray portland cement and clinker from Mexico. See Final Results of Antidumping Duty Change-Circumstances Review: Gray Portland Cement and Clinker from Mexico, 72 FR 61863 (November 1, 2007) (Changed-Circumstances Review Final Results). The review covers one manufacturer/exporter, Holcim Apasco, S.A. de C.V., and Cementos Apasco, S.A. de C.V. (collectively Apasco). The changed-circumstances review covers exports of subject merchandise to the United States during the period October 1, 2006, through December 31, 2006. On November 6, 2007, Apasco filed a request for NAFTA panel review of the Changed-Circumstances Review Final Results. On December 19, 2007, the Department and Apasco settled the changed-circumstances review. On December 31, 2007, the NAFTA Secretariat terminated the litigation in accordance with the parties' consent.

Assessment of Duties

Having a final and conclusive resolution of the contested changed-circumstances review, we are now amending the final results of the changed-circumstances review of the antidumping duty order on Mexican cement to reflect the terms of the settlement agreement. Consequently, we determine that the per-unit amount to be assessed on all entries of Mexican cement during the period of the contested changed-circumstances review which were produced by Apasco is $3.00 per metric ton. Accordingly, the Department will instruct U.S. Customs and Border Protection (CBP) to assess appropriate antidumping duties on the affected entries of the subject merchandise during the contested review period. The Department will issue assessment instructions to CBP within 41 days of publication of this notice.

Cash-Deposit Requirements

As provided by section 751(a)(1) of the Tariff Act of 1930, as amended, and as stipulated in the settlement agreement, the cash-deposit rate for all shipments of Mexican cement produced or exported by Apasco entered, or withdrawn from warehouse, for consumption after the effective date of this notice shall be at the rate of three U.S. dollars ($3.00) per metric ton. The deposit requirements shall remain in effect until further notice.

We are issuing and publishing this notice in accordance with sections 751(a)(1) and 777(i)(1) of the Tariff Act of 1930, as amended.

Dated: January 7, 2008.
David M. Spooner,
Assistant Secretary for Import Administration.

[FR Doc. E8-334 Filed 1-10-08; 8:45 am]

BILLING CODE 3510-DS-P